DEPARTMENT OF ENERGY

Federal Energy Regulatory Commission

Notice of Application for Amendment of License and Soliciting Comments, Motions To Intervene, and Protests

August 30, 2001.

Take notice that the following application has been filed with the Commission and is available for public inspection:

a. Application for Approval to Amend Project Boundary.

b. Project No. 2651-018.

c. Date Filed: August 6, 2001.

d. Applicant: Indiana Michigan Power Company.

e. Name of Project: Elkart Hydroelectric Project.

f. St. Joseph River, Elkart Indiana.

g. Filed Pursuant to: Federal Power Act, 16 USC §§ 791(a) 825(r) and §§ 799 and 801.

h. Applicant Contact: Mr. Frank M. Simms, Fossil and Hydro Operations, American Electric Power, 1 Riverside Plaza, Columbus, Ohio 43215-2373, (614) 223-2918, fmsimms@aep.com.

i FERC Contact: Any questions on this notice should be addressed to: Samuel Edoror at (202) 208-0848, or e-mail address: samuel.edoror@ferc.fed.us.

j. Deadline for filing comments and or motions: October 1, 2001.

All documents (original and eight copies) should be filed with: Mr. David P. Boergers, Secretary, Federal Energy Regulatory Commission, 888 First Street, N.E., Washington DC 20426. Comments, protests and interventions may be filed electronically via the Internet in lieu of paper. See, 18 CFR 385.2001(a)(1)(iii) and the instructions on the Commission's web site under the “e-Filing” link.

Please include the project number (P-2651-018) on any comments or motions filed.

k. Description of Request: Indiana Michigan Power Company (I&M) proposes to revise the boundary to allow water access to several parcels of land within an adjacent subdivision. (I&M) plans to convey fee interest for less than one acre of land within the project reservoir to allow an adjacent developer to access the St. Joseph River by dredging a 300 feet long channel. In return, the developer will convey a flowage easement for the parcel, plus the easement of lands within the channel up to elevation 743.00.

l. Location of application: A copy of the application is available for inspection and reproduction at the Commission's Public Reference Room, located at 888 First Street, NE., Room 2A, Washington, DC 20426, or by calling (202) 208-1371. Copies of this filing are on file with the Commission and are available for public inspection. This filing may also be viewed on the web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rule of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTESTS”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-22334 Filed 9-5-01; 8:45 am]

BILLING CODE 6717-01-P